DEPARTMENT OF COMMERCE

International Trade Administration

Stanford University, et al.; Notice of Consolidated Decision on Applications for Duty-Free Entry of Electron Microscopes

This is a decision consolidated pursuant to Section 6(c) of the Educational, Scientific, and Cultural Materials Importation Act of 1966 (Pub. L. 89-651, as amended by Pub. L. 106-36; 80 Stat. 897; 15 CFR part 301). Related records can be viewed between 8:30 a.m. and 5 p.m. in Room 3705, U.S. Department of Commerce, 14th and Constitution Avenue., NW., Washington, DC.

Docket Number: 10-070. Applicant: Stanford University, Stanford CA 94305. Instrument: Electron Microscope.

Manufacturer: FEI Company, the Netherlands. Intended Use: See notice at 76 FR 2647, January 14, 2011.

Docket Number: 10-071. Applicant: Stanford University, Stanford, CA 94305. Instrument: Electron Microscope.

Manufacturer: FEI Company, the Netherlands. Intended Use: See notice at 76 FR 2647, January 14, 2011.

Docket Number: 10-074. Applicant: Wake Forest University Health Sciences, Winston-Salem, NC 27157. Instrument: Electron Microscope.

Manufacturer: FEI Company, Czech Republic. Intended Use: See notice at 76 FR 2647, January 14, 2011.

Docket Number: 10-075. Applicant: The Virginia Tech Carilion Research Institute, Roanoke, VA 24016. Instrument: Electron Microscope.

Manufacturer: FEI Company, Czech Republic. Intended Use: See notice at 76 FR 2647, January 14, 2011.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated: February 15, 2011.
Gregory W. Campbell,
Director, Subsidies Enforcement Office, Import Administration.

[FR Doc. 2011-3915 Filed 2-18-11; 8:45 am]

BILLING CODE 3510-DS-P